ENVIRONMENTAL PROTECTION AGENCY

[EPA-HQ-OPP-2014-0125; FRL-9880-01-OCSPP]

Pesticide Reregistration Performance Measures and Goals; Annual Progress Report for 2019; Notice of Availability

AGENCY: Environmental Protection Agency (EPA).

ACTION: Notice.

SUMMARY: This notice announces the availability of EPA's progress report in meeting its performance measures and goals for pesticide reregistration during fiscal year 2019. This progress report also presents the total number of products registered under the “fast-track” provisions of the Federal Insecticide Fungicide and Rodenticide Act (FIFRA).

DATES: Submit comments on or before August 30, 2022.

ADDRESSES: Submit your comments, identified by docket identification (ID) number EPA-HQ-OPP-2014-0125, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Rose Kyprianou, Antimicrobials Division (7510M), Office of Pesticide Programs, Environmental Protection Agency, 1200 Pennsylvania Ave. NW, Washington, DC 20460-0001; telephone number: (202) 566-0684; email address: kyprianou.rose@epa.gov.

SUPPLEMENTARY INFORMATION:

I. Does this action apply to me?

This action is directed to the public in general and may be of interest to a wide range of stakeholders including environmental, farm worker, and agricultural advocates; the chemical industry; pesticide users; and members of the public interested in the integration of tolerance reassessment with the reregistration process, and the status of various regulatory activities associated with reregistration and tolerance reassessment. Given the broad interest, the Agency has not attempted to identify all the specific entities that may be interested in this action.

II. What action is the Agency taking?

EPA is announcing the availability of EPA's progress report in meeting its performance measures and goals for pesticide reregistration during fiscal year 2019. The report for fiscal year 2019 discusses the completion of tolerance reassessment and describes the status of various regulatory activities associated with reregistration. The 2019 report also provides the total number of products reregistered and products registered under the “fast-track” provisions of FIFRA.

III. What is EPA's authority for taking this action?

The Federal Insecticide, Fungicide, and Rodenticide Act (FIFRA), 7 U.S.C. 136 et seq., requires EPA to publish information about EPA's annual achievements in meeting its performance measures and goals for pesticide reregistration.

IV. How can I get a copy of the report?

1. Docket. The 2019 report is available at https://www.regulations.gov, under docket ID number EPA-HQ-OPP-2014-0125.

2. EPA Website. The 2019 report is also available on EPA's website at https://www.epa.gov/pesticide-reevaluation/reregistration-and-other-review-programs-predating-pesticide-registration.

V. Can I comment on this report?

EPA welcomes input from stakeholders and the general public, see ADDRESSES for instructions. Any written comments received will be taken into consideration in the event that EPA determines that further action is warranted. EPA does not expect this report to lead to any particular action, and therefore is not seeking particular public comment.

1. Submitting Confidential Business Information (CBI). Do not submit Confidential Business Information (CBI) information to EPA through regulations.gov or through email. Clearly mark the part or all of the information that you claim to be CBI. For CBI information in a disk or CD-ROM that you email to EPA, mark the outside of the disk or CD-ROM as CBI then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing your comments, see the commenting tips at https://www.epa.gov/dockets/commenting-epa-dockets#tips.

Authority: 7 U.S.C. 136a-1(l).

Dated: June 28, 2022.
Michal Freedhoff,
Assistant Administrator, Office of Chemical Safety and Pollution Prevention.

[FR Doc. 2022-14149 Filed 6-30-22; 8:45 am]

BILLING CODE 6560-50-P